SOCIAL SECURITY ADMINISTRATION

[Docket No. SSA-2006-0149]

RIN 0960-AF58

Medical Criteria for Evaluating Cystic Fibrosis

AGENCY: Social Security Administration.

ACTION: Notice of teleconference.

SUMMARY: On Friday, May 10, 2013 at 1:00 p.m., EDT, we will conduct an informational briefing on our proposed changes to Listings 3.04 and 103.04 of the Listing of Impairments, as described in our recent Notice of Proposed Rulemaking. The teleconference is open to the public and will be strictly informational. We will not be accepting additional public comments.

DATES: The teleconference will take place on Friday, May 10, 2013 at 1:00 p.m., EDT.

ADDRESSES: For additional information regarding this teleconference, please contact Cheryl Williams, Office of Medical Listings Improvement, Office of Disability Programs, Social Security Administration, 6401 Security Boulevard, Baltimore, Maryland 21235-6401, (410) 965-1020.

For information on eligibility or filing for benefits, call our national toll-free number, 1-800-772-1213, or TTY 1-800-325-0778, or visit our Internet site, Social Security Online, at http://www.socialsecurity.gov.

SUPPLEMENTARY INFORMATION: On Friday, May 10, 2013 at 1:00 p.m., EDT, we will conduct an informational briefing on our proposed changes to Listings 3.04 and 103.04 of the Listing of Impairments, as described in the Notice of Proposed Rulemaking we published in the Federal Register on February 4, 2013 (78 FR 7968). We use Listings 3.04 and 103.04 to evaluate claims involving cystic fibrosis in adults and children under titles II and XVI of the Social Security Act.

The teleconference is open to the public and we invite interested individuals to call in to listen. The teleconference will be strictly informational. The public comment period for this matter closed on April 5, 2013. We will not be accepting additional public comments.

To call in by telephone dial 1-888-576-4390 and use participant passcode 897116. The moderator of the teleconference will be Arthur R. Spencer, Associate Commissioner for Disability Programs.

Agenda

1. General background information on the disability program.

2. Information for individuals with cystic fibrosis who apply for Social Security disability benefits, and for individuals with cystic fibrosis who are currently receiving disability benefits.

3. Information we received from medical experts and members of the public.

4. Proposed criteria in listings 3.04 and 103.04.

A final agenda will be available at http://www.socialsecurity.gov/disability/documents/Respiratory%20-%20CF%20Teleconference%20-%20Agenda%204-30-13.docx.

We will post a summary of this teleconference in the rulemaking record at http://www.regulations.gov. Use the Search function of the Web page to find docket number SSA-2006-0149 and look under Supporting & Related Material.

Dated: May 1, 2013.
Arthur R. Spencer,
Associate Commissioner, Office of Disability Programs.

[FR Doc. 2013-10702 Filed 5-6-13; 8:45 am]

BILLING CODE 4191-02-P